DEPARTMENT OF AGRICULTURE

Agricultural Marketing Service

[Docket # AMS-FV-2007-0006; FV-04-301]

United States Standards for Grades of Greenhouse Tomatoes

AGENCY: Agricultural Marketing Service, USDA.

ACTION: Notice.

SUMMARY: The Agricultural Marketing Service (AMS) of the Department of Agriculture (USDA) is revising the United States Standards for Grades of Greenhouse Tomatoes. Specifically, AMS is revising the standards to allow that percentages of defects and size classifications be determined by count rather than weight. This will result in a revision of the following sections of the standards: Tolerances, Size Classification, Standard Pack, Damage, and Serious Damage. Additionally, AMS is deleting the “Unclassified” section, adding moldy stems as a damage defect, and adding a scoring guide for damage and serious damage for skin checks. These revisions will bring the standards for greenhouse tomatoes in line with current marketing practices, thereby improving their usefulness in serving the industry.

DATES: Effective Date: March 19, 2007.

FOR FURTHER INFORMATION CONTACT: Vincent J. Fusaro, Standardization Section, Fresh Products Branch, Fruit and Vegetable Programs, Agricultural Marketing Service, U.S. Department of Agriculture, 1400 Independence Avenue, SW., Room 1661 South Building, STOP 0240, Washington, DC 20250-0240, Fax (202) 720-8871 or call (202) 720-2185. The revised United States Standards for Grades of Greenhouse Tomatoes will be available either through the address cited above or by accessing the AMS, Fresh Products Branch Web site at: http://www.ams.usda.gov/standards/stanfrfv.htm.

SUPPLEMENTARY INFORMATION: Section 203(c) of the Agricultural Marketing Act of 1946 (7 U.S.C. 1621-1627), as amended, directs and authorizes the Secretary of Agriculture “To develop and improve standards of quality, condition, quantity, grade and packaging and recommend and demonstrate such standards in order to encourage uniformity and consistency in commercial practices.” AMS is committed to carrying out this authority in a manner that facilitates the marketing of agricultural commodities and makes copies of official standards available upon request. The United States Standards for Grades of Fruits and Vegetables not connected with Federal Marketing Orders or U.S. Import Requirements no longer appear in the Code of Federal Regulations, but are maintained by USDA, AMS, Fruit and Vegetable Programs.

AMS is revising the voluntary United States Standards for Grades of Greenhouse Tomatoes using procedures that appear in Part 36, Title 7 of the Code of Federal Regulations (7 CFR part 36). These standards were last revised in 1966.

Background

Prior to undertaking research and other work associated with revision of the grade standards, AMS published a notice in the Federal Register (68 FR 68859) on December 10, 2003, soliciting comments on the possible revision of the United States Standards for Grades of Greenhouse Tomatoes. AMS published a subsequent notice in the Federal Register (69 FR 12299) on March 16, 2004, extending the period for comments. Further, after the comment period, AMS prepared a discussion draft of the proposed greenhouse tomato standard, and distributed copies for input to all commenters, industry associations, and other interested persons. As a result, we added a scoring guide for damage and serious damage by skin checks and included moldy stems as a damage defect. Based on comments received from the notices and discussion draft, AMS published a notice in the Federal Register (71 FR 30860) on May 31, 2006, proposing to revise the standards.

In response to this notice, AMS received six comments on the proposed revisions. Two from domestic trade organizations, one from a foreign trade organization, one from an international marketing organization, and two from foreign government agencies. The comments are available by accessing the AMS, Fresh Products Branch Web site at: http://www.ams.usda.gov/fv/fpbdocketlist.htm.

Two commenters supported the size classification, the standard pack section, the creation of a separate standard for tomatoes on the vine, the skin check definition, and the inclusion of moldy stems as a defect. The commenters requested that “russetting” be included in the skin check definition. “Russetting” is a trade term used to describe a type of scarring or growth crack that tends to be concentric to the stem scar. The term “russetting” is used to describe the defect that is classified in the standards as skin checks, therefore tomatoes that are affected by “russetting” are covered by the definition for skin checks. The commenters also expressed concern regarding the scoring of moldy stems. They stated that moldy stems should be scored as a defect only when there is a large growth of mold that leaves behind a soft area after it is wiped off of the fruit. They also were of the view that the mere presence of a dot of mold should not cause the fruit to be considered moldy. The classification of moldy stems as a damage defect in the standards is such that a small amount of mold would not be scored, however mold that materially affects the appearance of the tomato will be scored. Therefore, no change to the standards will be made as a result of these comments.

One commenter supported the proposed change to allow that percentages of defects and size classifications be determined by count rather than weight and the inclusion of moldy stems as a damage defect. The commenter also recommended that the language in the U.S. Standards for Grades of Greenhouse Tomatoes be revised to read exactly as the U.S. Standards for Grades of Fresh Tomatoes. Revising the greenhouse tomatoes standards to reflect the fresh tomato standards would significantly change the tolerances and scoring guides for greenhouse tomatoes. Greenhouse tomatoes have unique characteristics and are grown in a controlled environment that eliminates external environmental issues, such as wind and rain, that could affect the appearance or keeping quality. Therefore, due to these differences, the standards will remain separate and distinct.

One commenter suggested that percentages for defects and size should be determined by count or weight. The commenter noted that they sell tomatoes by weight. However, the commenter noted that in some cases a percentage by count may be more useful; therefore, the commenter recommended that the standards provide a choice: count or weight. Under current marketing practices, greenhouse tomatoes are packaged and marketed having a uniform size. AMS believes that the consistency in sizing is best achieved when percentages are determined by count. Also, determining the percentages for defects and size by count, will be consistent with the fresh tomato standards.

One commenter expressed concern over the standard pack definition using diameter specifications, stating that measuring tomatoes by size and not count will force small, independent tomato growers to heavily invest in cost prohibitive sorting machinery. However, size is not part of the grade for greenhouse tomatoes; therefore specifying a size is voluntary. The size section provides sufficient flexibility in order to provide marketers the option to specify size. In turn, marketers that prefer not to specify a size are not required to do so.

One commenter noted that cartons of imported greenhouse tomatoes currently list weight/sizes in metric on the outside of the carton. They stated that this causes numerous administrative problems in trying to convert to English measurements, and requested that these cartons contain both metric and English measurements. However, such a provision would be beyond the scope of the standards.

One commenter requested clarification on how the wording would be in the revised standard for moldy stems and skin checks. The revised standards states that tomatoes shall be free from damage by moldy stems and free from damage by skin checks. Damage by moldy stems is defined under the general definition of damage to mean, “any specific defect which materially detracts from the appearance, or the edible or marketing quality of the tomato.” Damage by skin checks is defined as, “when the appearance of the tomato is affected to a greater extent than that of a tomato 2-½ inches in diameter having skin checks which has an aggregate area equivalent to that of a circle three-eighths inch in diameter.”

One commenter suggested that both the European Standard and the U.S. Standard be considered for harmonization during the revision process. The U.S. standards are used by the U.S. industry, any such harmonization of the standards would require involvement and input from the U.S. greenhouse industry. Therefore, this suggestion is not addressed in this action.

Based on the comments received and information gathered, AMS believes the revision to the standards will improve their usefulness in serving the industry.

The official grade of a lot of greenhouse tomatoes covered by these standards will be determined by the procedures set forth in the Regulations Governing Inspection, Certification, and Standards of Fresh Fruits, Vegetables and Other Products (Sec. 51.1 to 51.61).

The United States Standards for Grades of Greenhouse Tomatoes will become effective 30 days after publication of this notice in the Federal Register.

(Authority: 7 U.S.C. 1621-1627.)

Dated: February 12, 2007.
Lloyd C. Day,
Administrator, Agricultural Marketing Service.

[FR Doc. E7-2725 Filed 2-15-07; 8:45 am]

BILLING CODE 3410-02-P